DEPARTMENT OF EDUCATION

Applications for New Awards; Improved Reentry Education

AGENCY: Office of Career, Technical, and Adult Education, Department of Education.

ACTION: Notice.

Overview Information

Improved Reentry Education (IRE).

Notice inviting applications for new awards for fiscal year (FY) 2015.

Catalog of Federal Domestic Assistance (CFDA) Number: 84.191D.

DATES:

Applications Available: July 13, 2015.

Date of Pre-Application Meeting: July 20, 2015.

Deadline for Transmittal of Applications: August 12, 2015.

Deadline for Intergovernmental Review: September 11, 2015.

Full Text of Announcement

I. Funding Opportunity Description

Purpose of Program: The purpose of the IRE program is to support demonstration projects in prisoner reentry education that develop evidence of reentry education's effectiveness. IRE seeks to demonstrate that high-quality, appropriately designed, integrated, and well-implemented educational and related services provided in institutional and community settings are critical in supporting educational attainment and reentry success for individuals who have been incarcerated.

Background: The economic and civic importance of the programs authorized by the Workforce Innovation and Opportunity Act, 29 U.S.C. 3101 et. seq. (WIOA),¹ including the Adult Education and Family Literacy Act (Title II of WIOA) (AEFLA), is amplified by three recent policy documents that highlight the challenges faced by low-skilled adults: (1) “Time for the U.S. to Reskill? What the Survey of Adult Skills Says”,² released by the Organisation for Economic Co-operation and Development (OECD); (2) “Ready to Work: Job-Driven Training and American Opportunity”,³ published by the Office of the Vice President; and (3) “Making Skills Everyone's Business”,⁴ published by the Department.

¹ See www.gpo.gov/fdsys/pkg/PLAW-113publ128/pdf/PLAW-113publ128.pdf.

² OECD (2013), Time for the U.S. to Reskill?: What the Survey of Adult Skills Says, OECD Skills Studies, OECD Publishing. Accessed February 11, 2015, from www.oecd-ilibrary.org/education/time-for-the-u-s-to-reskill_9789264204904-en.

³ Vice President's Office (2014), Ready to Work: Job-driven Training and American Opportunity, Washington, DC: Author. Accessed February 11, 2015, from www.whitehouse.gov/sites/default/files/docs/skills_report.pdf.

⁴ U.S. Department of Education, (2015, February). Making Skills Everyone's Business: A Call to Transform Adult Learning in the United States. Washington, DC: Author. Accessed February 11, 2015, from www2.ed.gov/about/offices/list/ovae/pi/AdultEd/making-skills.pdf

These reports focus on the large numbers of low-skilled adults in the U.S. and underscore the urgent need to improve services and learning outcomes for adults in federally-funded programs by implementing innovative approaches to teaching and learning.

More than 700,000 incarcerated individuals leave Federal and State prisons each year.⁵ Too many of these individuals do not reintegrate successfully into society; within 3 years of release, 4 out of 10 prisoners will be reincarcerated.⁶

⁵ Guerino, Paul, Paige M. Harrison, and William J. Sabol. 2011. Prisoners in 2010. NCJ 236096. Washington, DC: U.S. Department of Justice, Bureau of Justice Statistics. Accessed January 15, 2015, from bjs.ojp.usdoj.gov/content/pub/pdf/p10.pdf.

⁶ The Pew Center on the States. 2011. State of Recidivism: The Revolving Door of America's Prisons. Washington, DC: The Pew Charitable Trusts. Accessed March 11, 2015, from www.michigan.gov/documents/corrections/Pew_Report_State_of_Recidivism_350337_7.pdf.

This cycle of recidivism contributes significantly to the overall expenditures for corrections, which costs States more than $50 billion annually.⁷ Moreover, the number of individuals cycling in and out of our Nation's prisons jeopardizes public safety and negatively affects those individuals' families and their communities. Approximately 2.7 million children have an incarcerated parent, and these children are more likely to be expelled or suspended from school than children without an incarcerated parent.⁸

⁷ National Association of State Budget Officers. 2011. State Expenditure Report: Examining Fiscal 2009-2011 State Spending. Washington, DC: Author. Accessed January 15, 2015, from www.nasbo.org/sites/default/files/2010%20State%20Expenditure%20Report.pdf.

⁸ Phillips, Susan D., Alaattin Erkanli, Gordon P. Keeler, E. Jane Costello, & Adrian Angold. 2006. “Disentangling the Risks: Parent Criminal Justice Involvement and Children's Exposure to Family Risks.” Criminology and Public Policy 5(4): 677-702.

Among the male U.S. population aged 20 to 34 years without a high school credential, 1 in 3 black men, 1 in 8 white men, and 1 in 14 Hispanic men are incarcerated.⁹ Formerly incarcerated men earn significantly less per year than those who have never been incarcerated.¹⁰ Unfortunately, many offenders are ill-equipped to break this cycle of reincarceration because they lack the education and workforce skills they need to succeed in the labor market and the cognitive skills (e.g., the ability to solve problems) that are essential to successfully addressing the challenges of reentry.¹¹ Approximately 41 percent of Federal and State prisoners lack a high school credential, compared to 18 percent of the general population. Fewer than 15 percent have attained a postsecondary credential.¹²

⁹ The Pew Charitable Trusts. 2010. Collateral Costs: Incarceration's Effect on Economic Mobility. Washington, DC: Author. Accessed March 11, 2015, from www.pewtrusts.org/~/media/legacy/uploadedfiles/pcs_assets/2010/CollateralCosts1pdf.pdf.

¹⁰ Gould, Eric D., Bruce A. Weinberg, and David B. Mustard. 2002. “Crime Rates and Local Labor Market Opportunities in the United States: 1979-1997.” Review of Economics and Statistics 84 (1): 45-61. Accessed March 11, 2015, from www.terry.uga.edu/~mustard/labor.pdf.

¹¹ MacKenzie, Doris Layton. 2012. “The Effectiveness of Corrections-Based Work and Academic and Vocational Education Programs.” In The Oxford Handbook of Sentencing and Corrections, edited by Joan Petersilia and Kevin R. Reitz, 492-520. New York: Oxford University Press.

¹² Harlow, Caroline Wolf. 2003. Education and Correctional Populations. NCJ 195670. Washington, DC: U.S. Department of Justice, Bureau of Justice Statistics. Accessed March 11, 2015, from www.bjs.gov/content/pub/pdf/ecp.pdf.

Although most State and Federal prisons offer adult education and career and technical education programs, and some offer postsecondary education, participation in these programs has not kept pace with the growing prison population.¹³ Similarly, those under community supervision (parole or probation) often do not participate in education and training programs.¹⁴ Possible reasons for these low participation rates include lack of, or limited access to, programs, limited awareness of program opportunities, reductions in services because of State budget constraints, insufficient personal motivation, and competing demands (e.g., employment) that may take precedence over pursuing education.¹⁵ It is not surprising, therefore, that formerly incarcerated individuals cited education, job training, and employment as vital needs not generally met during incarceration or after release.¹⁶

¹³ Western, Bruce, Vincent Schiraldi, and Jason Ziedenberg. 2003. Education & Incarceration. Washington, DC: Justice Policy Institute. Accessed March 11, 2015, from www.justicepolicy.org/images/upload/03-08_REP_EducationIncarceration_AC-BB.pdf.

¹⁴ Phillips, Susan D., Alaattin Erkanli, Gordon P. Keeler, E. Jane Costello, & Adrian Angold. 2006. “Disentangling the Risks: Parent Criminal Justice Involvement and Children's Exposure to Family Risks.” Criminology and Public Policy 5(4): 677-702.

¹⁵ Crayton, Anna, and Suzanne Rebecca Neusteter. 2008. The Current State of Correctional Education. Paper prepared for the Reentry Roundtable on Education. New York: John Jay College of Criminal Justice, Prisoner Reentry Institute. Accessed May 20, 2015, from www.prisonlegalnews.org/news/publications/pri-crayton-state-of-correctional-education/.

¹⁶ Visher, Christy A., and Pamela K. Lattimore. 2007. “Major Study Examines Prisoners and Their Reentry Needs.” NIJ Journal 258: 30-33. Accessed March 11, 2015, from www.ncjrs.gov/pdffiles1/nij/219603g.pdf.

Low-skilled individuals who move in and out of prison may not be able to access well-integrated and sequenced educational programs. Coordination and communication among educational programs and their partner-related service providers, both inside and outside of correctional institutions, are essential to facilitating educational participation and progress. A lack of coordination and communication can result in barriers such as differing standardized assessments and curricula and lack of articulation agreements, making student transfers from one program to another difficult. Other barriers to accessing well-integrated related services and educational programs in institutional and community settings include:

• Misinterpretation of Federal and State privacy laws and insufficient links among data systems, making it difficult for programs to get a comprehensive picture of their students' backgrounds, avoid duplication of effort, and track outcomes.

• A perception among correctional officials (e.g., wardens, parole and probation officers, and court officials) and policymakers that individuals in correctional institutions should not receive educational services; this, in turn, can make it difficult to begin or expand student participation and establish supportive education and reentry policies.

• Inadequate staff training, resulting in ineffective educational services.

• Limited funds, leading to long waiting lists for programs.

Programs based in jails present additional challenges. Because individuals in jails are typically serving a sentence of a year or less, they may not have time to complete a program while incarcerated. The connection between the jail and community-based programs, therefore, is particularly important. On the other hand, individuals incarcerated in prisons may not be released to a nearby community. This can create challenges for prisons trying to develop an education continuum for students because they may need to develop partnerships with community-based providers across the State.¹⁷

¹⁷ “Reentry Education Model Implementation Study, Promoting Reentry Success Through Continuity of Educational Opportunities,” U.S. Department of Education, 2015.

The Department previously recognized the need for the development of a correctional education reentry model illustrating an education continuum to bridge the gap between prison and community-based education and training programs (Reentry Education Model).¹⁸ Through a grant competition in 2012, Promoting Reentry Success Through Continuity of Educational Opportunities (PRSCEO), the Department funded three grant projects specifically to assess the Reentry Education Model in existing correctional and reentry education settings. Recognizing the need for other models to address the reentry education challenge, the Secretary will, through this new competition, support the establishment and operation of projects through partnerships that will implement models for correctional and reentry education based on strong theory (as defined in this notice). Eligible applicants will apply on behalf of a partnership that includes required and optional partners as described in the Eligible Applicants section of this notice.

¹⁸ “A Reentry Education Model, Supporting Education and Career Advancement for Low Skill Individuals in Corrections,” U.S. Department of Education, 2012.

Note: Applicants are not required to include the Reentry Education Model in their applications and will not receive any competitive preference as a result of incorporating the Reentry Education Model in their applications.

Priorities: This competition contains two absolute priorities. Absolute Priority 1 is from the notice of the Secretary's Final Supplemental Priorities and Definitions for Discretionary Grant Programs published in the Federal Register on December 10, 2014, (79 FR 73426) (Secretary's priorities). We are establishing Absolute Priority 2 for this grant competition only and any subsequent year in which we make awards from the list of unfunded applicants from this competition, in accordance with section 437(d)(1) of the General Education Provisions Act (GEPA), 20 U.S.C. 1232(d)(1).

Absolute Priorities: For the FY 2015 grant competition and any subsequent year in which we make awards from the list of unfunded applications from this competition, these priorities are absolute priorities. Under 34 CFR 75.105(c)(3), we consider only applications that meet both of these absolute priorities.

Absolute Priority 1—Supporting High-Need Students.¹⁹

¹⁹ See http://www.gpo.gov/fdsys/pkg/FR-2014-12-10/pdf/2014-28911.pdf, 79 FR 73426, Priority 4. Also see the Definition section of this notice inviting applications for the definitions of “high-need students” and “low-skilled adults.”

To meet this priority, an applicant must propose a project designed to improve academic outcomes or learning environments for low-skilled adults (as defined in this notice).

Absolute Priority 2—Improving Supports and Correctional Education.

To meet this priority, an applicant must propose a project that:

(1) Improves the quality of education programs in adult correctional facilities and community settings, and

(2) Links correctional education students to education or job training programs post-release.

Requirements

Application Requirements

The project plan submitted within the application must include:

(a) An approach that demonstrates strong theory (as defined in this notice), which includes a logic model (as defined in this notice) and supporting practice.

(b) A description of how the applicant will implement, or already has implemented, specified and described elements of a system designed to coordinate education and related services provided in a correctional facility or facilities and in community settings. This description must include the following:

(1) The elements of the proposed project, including:

(i) A correctional institution student intake protocol that includes assessment, individual educational plan development, and the recording of information in a centralized, electronic data system;

(ii) The process the applicant will use for developing individual education plans that address individual student needs;

(iii) Educational services with appropriate alignment and content, including basic educational services for low-skilled adults, within correctional facilities and within community-based educational programs for reentering formerly incarcerated persons or other justice-involved individuals such as probationers;

(iv) Strategies based on strong theory (as defined in this notice) for:

(A) Improving student outcomes in the attainment of established measures for the AEFLA program,

(B) Increasing the number of students completing their educational programs, and

(C) Increasing the number of students attaining their educational goals;

(v) Pre-release procedures and protocols to support the transition of students, including low-skilled adults, from correctional institution educational programs to community-based educational programs; and

(vi) Intake processes and procedures for the community-based educational services that include—

(A) Connecting incarcerated individuals with community-based services by supporting orientation to, and pre-enrollment in, those services prior to release from the correctional institution,

(B) Timely transfer of student data and educational plans, which are updated as necessary and appropriate, and

(C) A process of communication among all project partners and with the individual students, including a point person for tracking individual progress to the extent practicable and for tracking students transferring to other adult basic education or adult secondary education programs, postsecondary education, training programs, or occupational training programs.

(2) Fundamental program elements, which must include:

(i) A description of the non-Federal funds and in-kind contributions that would be used in the project, if applicable;

(ii) A description of the partnership that will implement the proposed project, including required and optional partners as described under Eligible Applicants;

(iii) Electronic data system;

(iv) Staff training;

(v) Reentry policies; and

(vi) Evaluation processes.

(3) Implementation components, including—

(i) The methodology that the applicant used to select the partner(s);

(ii) For each proposed partner, descriptions of—

(A) The populations served by the partner; and

(B) The expected contributions of the partner to the proposed project and the extent to which each partner has committed to the implementation and sustainability of the project.

(iii) Strategies for identifying and allocating human resources among the partners as needed to implement the proposed project;

(iv) The applicant's approach to initial and ongoing personnel development or training for personnel involved in implementing the proposed project; and

(4) Sustainability components, including a plan for:

(i) Assessing the responsibilities for project maintenance and support among the partners at the participating project sites by the end of the project period in order to continue services after the project period ends; and

(ii) Continuing personnel training among the partners in order to build capacity to implement reentry education during the grant project period and to ensure that the project is sustained after the grant project period ends.

(c) A detailed timeline for implementing the proposed project.

(d) A plan for collecting data that will be submitted to the Department, which, at a minimum, must include:

(1) The numbers of individuals who maintain educational participation while transitioning from and among correctional institutions, including to community correctional settings and other community-based educational programs; and

(2) The numbers of adults who acquire basic skills (including English language acquisition), complete secondary education, and transition to further education, training, or to work as indicated by attainment of educational functioning levels, attainment of high school credentials, enrollment in postsecondary education or training programs, and attainment of employment.

(e) A description of the project's strong theory (as defined in this notice), including the logic model and supporting practice and a plan to collect data on the following system outputs:

(1) Changes to policies, procedures, or data collection systems, and

(2) Changes related to student information or record sharing, referrals for services, educational services, assessments, and transition planning.

(f) A proposed budget that includes estimates of the costs of:

(1) Implementing the proposed project, including but not limited to—

(i) Personnel, and

(ii) The various components of the proposed project; and

(2) Attendance of up to two attendees at a required one-and-one-half-day meeting in Washington, DC.

(g) A description of the applicant's formative evaluation plan, consistent with the proposed project's strong theory (as defined in this notice), that:

(1) Includes information on how the data described in paragraph (d) of these Application Requirements will be reviewed by the project staff prior to finalizing data collection plans and again prior to submitting those data to the Department (consistent with the timeline in paragraph (c) of these Application Requirements) and how they will be used during the course of the project to adjust the project or its implementation in order to enhance the project's outcomes, generalizability, and potential for sustainability; and

(2) Includes, as appropriate, periodic collection of student and system data in addition to other data relating to fidelity of implementation, stakeholder acceptability, and the types of facilities in which the services are provided (e.g., correctional institution, community center, library).

General Requirements

To meet the general requirements of this competition, each applicant must propose to conduct the following activities:

(a) Participate in program activities and collaborative efforts among grantees, Department staff, and the Department-identified technical assistance provider, if applicable, to disseminate information to entities such as adult education providers, correctional institutions, community-based organizations, community colleges, professional organizations, and other entities identified by the Department.

(b) Communicate and collaborate on an ongoing basis with Department-funded or other Department-designated projects in order to share information on successful strategies and challenges for implementing reentry education across correctional and community settings.

(c) Maintain ongoing telephone and email communication with the Department project officer and the administrators of other projects funded under this competition.

(d) Submit data, when and as specified by the Department, in order to evaluate the applicant's success in implementing the project's objectives with reference to the reentry education challenge.

Definitions

The definition of “Adult education and literacy activities” is from section 203(2) of the Workforce Innovation and Opportunity Act of 2014, 29 U.S.C. 3272(2) (WIOA). The definitions of “high-minority school,” “high need students,” and “low-skilled adult” are from the notice of the Secretary's Final Supplemental Priorities and Definitions for Discretionary Grant Programs published in the Federal Register on December 10, 2014, (79 FR 73426). The definitions of “logic model”, “relevant outcome”, and “strong theory” are from the Education Department General Administrative Regulations at 34 CFR 77.1(c).

Adult education and literacy activities means programs, activities, and services that include adult education, literacy, workplace adult education and literacy activities, family literacy activities, English language acquisition activities, integrated English literacy and civics education, workforce preparation activities, or integrated education and training.

Note: The programs, activities, and services listed in the definition of “adult education and literacy activities” are each defined in section 203 of WIOA, 29 U.S.C. 3272.

High-minority school means a school as that term is defined by a local educational agency (LEA), which must define the term in a manner consistent with its State's Teacher Equity Plan, as required by section 1111(b)(8)(C) of the Elementary and Secondary Education Act of 1965, as amended (ESEA). The applicant must provide the definition(s) of High-minority schools used in its application.

High-need students means students who are at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

Logic model (also referred to as theory of action) means a well-specified conceptual framework that identifies key components of the proposed process, product, strategy, or practice (i.e., the active “ingredients” that are hypothesized to be critical to achieving the relevant outcomes) and describes the relationships among the key components and outcomes, theoretically and operationally.

Low-skilled adult means an adult with low literacy and numeracy skills.

Relevant outcome means the student outcome(s) (or the ultimate outcome if not related to students) the proposed process, product, strategy, or practice is designed to improve; consistent with the specific goals of a program.

Strong theory means a rationale for the proposed process, product, strategy, or practice that includes a logic model.

Waiver of Proposed Rulemaking: Under the Administrative Procedure Act (5 U.S.C. 553), the Department generally offers interested parties the opportunity to comment on proposed priorities and other requirements. Section 437(d)(1) of the General Education Provisions Act (GEPA), however, allows the Secretary to exempt from rulemaking requirements regulations governing the first grant competition under a new or substantially revised program authority. This is the first grant competition for this program under AEFLA, Title II of WIOA, section 242, National Leadership Activities, 29 U.S.C. 3332, and therefore qualifies for this exemption. In order to ensure timely grant awards, the Secretary has decided to forgo public comment on the priorities and other requirements under section 437(d)(1) of GEPA. These priorities and other requirements will apply to the FY 2015 grant competition and any subsequent year in which we make awards from the list of unfunded applicants from this competition.

Program Authority: 29 U.S.C. 3332.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485, and the Uniform Administrative Requirements, Cost Principles, and Audit Requirements for Federal Awards in 2 CFR part 200, as adopted and amended in 2 CFR part 3474.

Note: The regulations in 34 CFR part 79 apply to all applicants except federally-recognized Indian tribes.

Note: The regulations in 34 CFR part 86 apply only to institutions of higher education.

II. Award Information

Type of Award: Discretionary grants.

Estimated Available Funds: $2,700,000 for the first 12 months of this project period. Funding for program years two and three is subject to the availability of funds and to a grantee meeting the requirements of 34 CFR 75.253. Contingent upon the availability of funds and the quality of applications, we may make additional awards in FY 2016 and future years from the list of unfunded applications from this competition.

Estimated Range of Awards: $200,000-$350,000.

Estimated Average Size of Award: $300,000.

Estimated Number of Awards: 9.

Note: The Department is not bound by any estimates in this notice.

Project Period: Up to 36 months. Applicants under this competition are required to provide detailed budget information for each of the three years of this project and for the total grant.

III. Eligibility Information

1. Eligible Applicants:

(a) An application must be submitted by an eligible applicant, as described in paragraph (b) of this section, on behalf of a partnership that involves the required partners in subparagraph (c)(i) of this section, and any optional partners in subparagraph (c)(ii) of this section.

(b) Eligible applicant means one of the following organizations that currently provide adult education and literacy activities:

(i) correctional institutions;

(ii) community correction facilities or organizations;

(iii) intermediary prisoner reentry service providers;

(iv) community-based educational service providers;

(v) other community-based or faith-based organizations;

(vi) volunteer literacy organizations;

(vii) institutions of higher education, including community college or technical colleges;

(viii) public or private nonprofit agencies;

(ix) libraries;

(x) occupational training providers;

(xi) public housing authorities; or

(xii) nonprofit institutions not described above that provide adult education and literacy activities in correctional institutions or community settings.

(c) The partnership on whose behalf the application is submitted—

(i) Must include—

(A) The eligible applicant submitting the application, and

(B) One or more correctional institutions, as identified in the list of eligible applicants in paragraph (b)(i) of this section, at least one of which must currently offer adult basic education services or English literacy programs; and

(ii) May also include one or more of the other eligible applicants identified above in paragraph (b) of this section.

2. Cost Sharing or Matching: This program does not require cost sharing or matching.

IV. Application and Submission Information

1. Address to Request Application Package: You can obtain an application package via the Internet or from the Education Publications Center (ED Pubs), or from the program office.

To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.191D

To obtain a copy from the program office, contact the persons listed under For Further Information Contact in section VII of this notice.

Individuals with disabilities can obtain a copy of the application package in an accessible format (e.g., braille, large print, audiotape, or compact disc) by contacting the person or team listed under Accessible Format in section VIII of this notice.

2. a. Content and Form of Application Submission: Requirements concerning the content of an application, together with the forms you must submit, are in the application package for this competition.

Page Limit: The application narrative (Part III of the application) is where you, the applicant, address the selection criteria that reviewers use to evaluate your application. You must limit the application narrative [Part III] to no more than 30 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

Our reviewers will not read any pages of your application that exceed the page limit.

2. b. Content and Form of Application Submission:

Given the types of projects that may be proposed in applications for the IRE program, your application may include business information that the applicant considers proprietary. The Department's regulations define “business information” in 34 CFR 5.11.

Because we plan to make successful applications available to the public upon request, you may wish to request confidentiality of business information. Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: July 13, 2015.

Deadline for Transmittal of Applications: August 12, 2015.

Applications for grants under this competition must be submitted electronically using the Grants.gov Apply site. For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 11, 2015.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications

Applications for grants under this competition must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for IRE at www.Grants.gov. You must search for the downloadable application package for this program by the CFDA number. Do not include the CFDA number's alpha suffix in your search (e.g., search for 84.191, not 84.191D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date.

Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date. Address and mail or fax your statement to: Tammi Fergusson, U.S. Department of Education, 400 Maryland Avenue SW., Room 11009, PCP, Washington, DC 20202-7240. FAX: (202) 245-7839.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.191D), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service. If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.191D), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department:

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the following paragraphs. The maximum score for all the selection criteria is 100 points.

In addressing each criterion, applicants are encouraged to make explicit connections to relevant aspects of responses to other selection criteria. The selection criteria are as follows:

(1) Need for project (up to 10 points).

(a) The Secretary considers the need for the proposed project.

(b) In determining the need for the proposed project, the Secretary considers one or more of the following factors:

(i) The magnitude of the need for the services to be provided or the activities to be carried out by the proposed project; and

(ii) The extent to which specific gaps or weaknesses in services, infrastructure, or opportunities have been identified and will be addressed by the proposed project, including the nature and magnitude of those gaps or weaknesses.

(2) Significance (up to 20 points).

(a) The Secretary considers the significance of the proposed project.

(b) In determining the significance of the proposed project, the Secretary considers—

(i) The extent to which the proposed project is likely to build local capacity to provide, improve, or expand services that address the needs of the target population; and

(ii) The importance or magnitude of the results or outcomes likely to be attained by the proposed project.

(3) Quality of the project design (up to 30 points).

(a) The Secretary considers the quality of the design of the proposed project.

(b) In determining the quality of the design of the proposed project, the Secretary considers—

(i) The extent to which the goals, objectives, and outcomes to be achieved by the proposed project are clearly specified and measurable;

(ii) The extent to which there is a conceptual framework underlying the proposed research or demonstration activities and the quality of that framework;

(iii) The extent to which the proposed project is designed to build capacity and yield results that will extend beyond the period of Federal financial assistance;

(iv) The extent to which the proposed project will integrate with or build on similar or related efforts to improve relevant outcomes (as defined in 34 CFR 77.1(c)), using existing funding streams from other programs or policies supported by community, State, and Federal resources; and

(v) The extent to which the proposed project is supported by strong theory (as defined in 34 CFR 77.1(c)).

(4) Adequacy of resources (up to 15 points).

(a) The Secretary considers the adequacy of resources for the proposed project.

(b) In determining the adequacy of resources for the proposed project, the Secretary considers—

(i) The relevance and demonstrated commitment of each partner in the proposed project to the implementation and success of the project;

(ii) The extent to which the costs are reasonable in relation to the objectives, design, and potential significance of the proposed project; and

(iii) The potential for continued support of the project after Federal funding ends, including, as appropriate, the demonstrated commitment of appropriate entities to such support.

(5) Quality of the management plan (up to 10 points).

(a) The Secretary considers the quality of the management plan for the proposed project.

(b) In determining the quality of the management plan for the proposed project, the Secretary considers—

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project.

(6) Quality of the project evaluation (up to 15 points).

(a) The Secretary considers the quality of the evaluation to be conducted of the proposed project.

(b) In determining the quality of the evaluation, the Secretary considers—

(i) The extent to which the methods of evaluation include the use of objective performance measures that are clearly related to the intended outcomes of the project and will produce quantitative and qualitative data to the extent possible; and

(ii) The extent to which the methods of evaluation will, if well-implemented, produce strong evidence (as defined in 34 CFR 77.1(c)).

(ii) The extent to which the methods of evaluation will provide valid and reliable performance data on relevant outcomes (as defined in this notice).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act, the Department has established goals and measures for the Adult Education and Family Literacy Act program.

One of the established goals of AEFLA is to support adult education systems that result in increased adult achievement in order to prepare adults, including individuals in correctional settings, for family, work, citizenship, and future learning. The AEFLA program provides adults with opportunities to acquire basic foundation skills (including English language acquisition), complete secondary education, and transition to further education and training and to work. There are four established measures for the AEFLA program that are applicable for adults in the IRE program. These measures are—

(1) The percentage of adults enrolled in English literacy programs served by the program who acquire the level of English language skills needed to complete the levels of instruction in which they enrolled.

(2) The percentage of adults enrolled in adult basic education programs served by the program who acquire the level of basic skills needed to complete the level of instruction in which they enrolled.

(3) The percentage of all enrolled adults in the applicable population served by the program who obtain certification of attaining passing scores on a State-recognized high school equivalency test or obtain a diploma or State-recognized equivalent, documenting satisfactory completion of secondary studies (high school or adult high school)²⁰

²⁰ The applicable population consists of all enrolled learners who take all GED tests, are enrolled in adult high school at the high ASE level, or are enrolled in the assessment phase of the External Diploma Program who exit during the program years.

(4) The percentage of adults in the applicable population served by the program that enter postsecondary education or a training program.²¹

²¹ The applicable population consists of all adults who passed the state approved high school equivalency test or earned a secondary credential while enrolled in adult education, have a secondary credential at entry, or are enrolled in a class specifically designed for transitioning to postsecondary education who exit during the program year. Entry into postsecondary education or training can occur any time from the time of exit through the end of the following program year. A transition class is a class that has a specific purpose to prepare students for entry into postsecondary education, training, or an apprenticeship program.

Under the Government Performance and Results Act, the Department has established goals and measures for the recidivism of individuals who have been in correctional institutions. The measure related to recidivism is—

(5) The percentage of adults served by the program who, within one year of release, have criminal justice system involvement (arrest, re-conviction, violation of parole conditions, or return to incarceration).

Grantees will be responsible for providing data to support evaluation of these objectives.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Tammi Fergusson, U.S. Department of Education, 400 Maryland Avenue SW., Room 11009, Potomac Center Plaza (PCP), Washington, DC 20202. Telephone: (202) 245-7706 or by email: Tammi.Fergusson@ed.gov.

If you use a TDD or TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Dated: July 7, 2015.
Johan E. Uvin,
Acting Assistant Secretary for Career, Technical, and Adult Education.

[FR Doc. 2015-17046 Filed 7-10-15; 8:45 am]

BILLING CODE 4000-01-P